DEPARTMENT OF LABOR

Employment and Training Administration

[TA-W-40,275 & NAFTA-05163]

Tyco Electronics, Fiber Optics Division; Glen Rock, PA; Notice of Negative Determination on Reconsideration on Remand

The United States Court of International Trade (USCIT) granted the Secretary of Labor's motion for a voluntary remand for further investigation in Former Employees of Tyco Electronics, Fiber Optics Division v. U.S. Secretary of Labor, No. 01-00152.

The Department's initial denial of Trade Adjustment Assistance (TA-W-40,275) for the workers of Tyco Electronics, Fiber Optics Division, Glen Rock, Pennsylvania was issued on January 14, 2002, and published in the Federal Register on January 31, 2002 (67 FR 4749), was based on the finding that the “contributed importantly” criterion of the group eligibility requirements of Section 222 of the Trade Act of 1974, as amended, was not met. The subject company did not import fiber optic cable connectors during the relevant period. The predominant cause of the work separations was related to a domestic transfer of production to an affiliated facility in Harrisburg, Pennsylvania.

The Department's initial denial of NAFTA-Transitional Adjustment Assistance (NAFTA-5163) for the workers of Tyco Electronics, Fiber Optics Division, Glen Rock, Pennsylvania was issued on September 28, 2001, and published in the Federal Register on October 19, 2001 (66 FR 53252), was based on the finding that the criteria (3) and (4) were not met. Imports from Canada or Mexico did not contribute importantly to workers' separations. The predominant cause of the worker separations was related to a domestic transfer of production to an affiliated facility in Harrisburg, Pennsylvania.

On January 22, 2002 Department of Labor issued a Notice of Negative Determination Regarding Application for Reconsideration for NAFTA-5163 and published in the Federal Register on February 5, 2002 (67 FR 5299). The petitioner alleged that plant production was shifted to an affiliated plant located in Mexico. Information provided by the company show that any plant production shifted to Mexico was negligible during the relevant period. The overwhelming (over 98%) portion of subject plant production was transferred to Harrisburg, Pennsylvania during the relevant period.

The petitioners on reconsideration also supplied a list of products that they indicated transferred to Mexico. The overwhelming majority of these products were transferred prior to the relevant time frame of the investigation. Some of these products were produced at the subject firm only when orders required quick turn around time. The majority of these products were produced at a sister facility located in Harrisburg when quick turn around time was required. The quick turn around products equivalent to what the Mexican plant produced were produced at the subject plant

Also, on reconsideration the petitioner also claimed that the plant workers trained workers from an affiliated Mexican plant. The workers did train workers from the Mexican plant during the relevant time frame. However, the training related to only a negligible portion of production performed at the subject plant.

On remand, the Department contacted a company official requesting company-wide sales figures of the article(s) produced at the subject firm plant and a list of the major declining customers of the subject plant.

The company supplied sales figures for the Fiber Optics Division showing increases in sales from 1999 to 2000 and sales declines from the January through September 2001 period over the corresponding 2000 period.

Since the company reported declining sales at the Fiber Optics Division during the relevant period, the Department conducted a survey of the major declining customers of the subject firm regarding their purchases of fiber optic cable assemblies, components and value added enclosures during 1999, 2000 and January through September 2001 over the corresponding 2000 period.

The survey revealed that one respondent did not increase their imports of products like or directly competitive with what the subject plant produced, while decreasing their purchases from the subject firm. Another major customer reported no direct import purchases during 1999, 2000 and January through September 2001. However, this customer reported that a small percentage of the products purchased were indirect imports (products purchased from a domestic source that were wholly manufactured in a foreign country) during September 2001, well after the decision by the subject firm to transfer production to Harrisburg, Pennsylvania and during the time of the completion of the domestic transfer. The amount of the customer's reported indirect imports was relatively low in relation to the customer's total domestic purchases.

Conclusion

After reconsideration on remand, I affirm the original notice of negative determination of eligibility to apply for adjustment assistance for workers and former workers of Tyco Electronics, Fiber Optics Division, Glen Rock, Pennsylvania.

Signed at Washington, DC this 15th day of January 2003.
Edward A. Tomchick,
Director, Division of Trade Adjustment Assistance.

[FR Doc. 03-2544 Filed 2-3-03; 8:45 am]

BILLING CODE 4510-30-U